DEPARTMENT OF AGRICULTURE

Forest Service

Uinta National Forest, Utah; Oil and Gas Leasing Environmental Impact Statement

AGENCY: Forest Service, USDA.

ACTION: Notice of intent to prepare an environmental impact statement.

SUMMARY: The Uinta National Forest is initiating the preparation of an Environmental Impact Statement that would determine under what conditions (stipulations) leases would be issued. The EIS would analyze all lands with a federally-owned leasable mineral estate within the Uinta National Forest.

DATES: Comments concerning the scope of the analysis must be postmarked or received within 45 days from date of publication of this notice in the Federal Register to ensure full consideration. The draft environmental impact statement is expected December 2006 and the final environmental impact statement is expected November 2007.

ADDRESSES: Please submit substantive issues or concerns to the Responsible Official: Dan Dallas, Acting Forest Supervisor, Uinta National Forest, P.O. Box 1428, 88 West 100 North, Provo, UT, 84603; phone (801) 342-5100; fax (801) 342-5185; e-mail: comments-intermtn-uinta@fs.fed.us. E-mailed comments must be submitted in MS Word (*.doc) or rich text format (*.rtf) and should include the project name in the subject line. Oral comments as well as written comments may also be submitted at the above address during regular business hours of 8 a.m. to 5 p.m., Monday-Friday, excluding Federal holidays.

Each individual or representative from each organization submitting substantive comments must either sign the comments or otherwise verify identity in order to attain appeal eligibility. Comments received in response to this solicitation, including names and addresses of those who comment, will be considered part of the public record for this project.

FOR FURTHER INFORMATION CONTACT: Pam Jarnecke, Environmental Coordinator, or Kim Martin, Minerals Staff Officer, Supervisor's Office of the Uinta National Forest at the address and phone number listed above.

SUPPLEMENTARY INFORMATION: The EIS analysis area includes the entire Uinta National Forest (approximately 897,400 acres), with the exception of designated wilderness areas (approximatley 58,400 acres) and privately held mineral resources in the Strawberry Reservoir area which cover approximately 61,300 acres, for a total study area of approximately 777,700 acres.

The Department of Interior, Bureau of Land Management (BLM), acts as the onshore leasing agent for the Federal government. The Federal Onshore Oil and Gas Leasing Reform Act states that the BLM cannot lease over the objection of the Forest Service and authorizes the Forest Service to regulate all surface-distrubing activities conducted pursuant to a lease. Therefore, the Forest Service has established an incremental decision-making framework for the consideration of oil and gas leasing activites on National Forest System lands. In general, the various steps that are undertaken are: (1) Forest Service leasing analysis; (2) Forest Service notification to BLM of lands administratively available for leasing; (3) Forest Service review and verification of BLM leasing proposals; (4) BLM assessment of Forest Service conditions of surface occupancy; (5) BLM offers lease; (6) BLM issues lease; (7) Forest Service review and approval of lessee's surface use plan of operations; (8) BLM review and approval of lessee's application for permit to drill; and (9) ensures final reclamation.

Based upon the Forest Service leasing analysis (step 1 from above) the Forest Service decides whether or not lands will be available for leasing and decides under what conditions (stipulations) the leases will be issued. This EIS will fullfill this step.

Purpose and Need for Action

The purpose of the proposed action is to complete a forest-wide leasing analysis. The need is to be responsive to requests for oil and gas leasing on the Forest. Currently only a portion of the Forest is available for leasing and most of that area has already been leased. Also, the proposed action is needed in order to comply with the Federal Onshore Oil and Gas Reform Act of 1987 which requires the Forest Service to analyze lands under its jurisdiciton that are legally avialable for leasing in accordance with the National Enviornmental Policy Act of 1969.

Proposed Action

The Proposed Action would make leasing decisions, including identification of stipulations as required by 36 CFR 228.102(d) for the Uinta National Forest System lands. Leasing stipulations outlined on page 3-7 of the 2003 LRMP will be the basis of the stipulations applied forest-wide. The Proposed Action may result in an amendment to the Uinta Revised Forest Plan.

Possible Alternatives

In addition to the Proposed Action, the No Action alternative will be analyzed in detail. The No Action Alternative would continue current management of leasing activities on approximately 197,000 acres of the Uinta National Forest. The remainder of the Uinta National Forest would continue to have no leasing opportunities.

Lead and Cooperating Agencies

The Bureau of Land Management, Salt Lake Field Office, and the State of Utah are cooperating agencies for this project.

Responsible Official

Dan Dallas, Acting Forest Supervisor, Uinta National Forest, P.O. Box 1428, 88 West 100 North, Provo, UT, 84603.

Nature of Decision To Be Made

The Forest Supervisor will decide which lands with federal mineral ownership are administratively available for oil and gas leasing and determine what conditions (stipulations) would be applied to future oil leases on the Uinta National Forest. This decision will not result in ground-disturbing activities within National Forest System lands administered by the Uinta NF such as exploration, drilling, and/or field development. Any ground disturbing activity that may be proposed subsequent to leasing would require further review and environmental analysis prior to approval, as outlined in current Federal regulations (36 CFR 228.107).

Scoping Process

One public scoping meeting will be held using an informal workshop format on Friday, March 3, 2006, at the Provo City Library's Bullock Room from 5 p.m.-7 p.m. The Library is located at 550 North University Avenue, Provo, UT 84601.

Preliminary Issues

Issues which may be analyzed in both alternatives include: the socioeconomic effects of oil and gas leasing and subsequent activities; effects on terrestrial and aquatic flora and fauna, including threatened and endangered species, sensitive species, and management indicator species; effects on both developed and dispersed recreation; effects on air resources; effects on water resources, including wetlands, floodplains, riparian areas, culinary and municipal water systems, and groundwater; effects on visual resources; effects of leasing stipulations and mitigation measures on oil and gas exploration and development activity; effects on soils and geologic hazards; effects on cultural and traditional heritage resources; effects on transportation; effects on upland vegetation; effects on riparian vegetation; effects on inventoried roadless areas; effects on other mineral resource extraction activities; and effects on noxious weeds and invasive species.

Comment Requested

This notice of intent initiates the scoping process which guides the development of the environmental impact statement.

Early Notice of Importance of Public Participation in Subsequent Environmental Review

A draft environmental impact statement will be prepared for comment. The comment period on the draft environmental impact statement will be 45-days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Dated: January 27, 2006.
Dan S. Dallas,
Acting Forest Supervisor.

[FR Doc. E6-1397 Filed 2-1-06; 8:45 am]

BILLING CODE 3410-11-P